ENVIRONMENTAL PROTECTION AGENCY

[EPA-HQ-OPP-2007-0038; FRL-8154-3]

Computer Sciences Corporation; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Computer Sciences Corporation in accordance with 40 CFR 2.307(h)(3) and 2.308(i)(2). Computer Sciences Corporation has been awarded multiple contracts to perform work for OPP, and access to this information will enable Computer Sciences Corporation to fulfill the obligations of the contract.

DATES: Computer Sciences Corporation will be given access to this information on or before November 5, 2007.

FOR FURTHER INFORMATION CONTACT: Felicia Croom, Information Technology and Resources Management Division (7502P), Office of Pesticide Programs, Environmental Protection Agency, 1200 Pennsylvania Ave., NW., Washington, DC 20460-0001; telephone number: (703) 305-0786; e-mail address: croom.felicia@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPPT-2007-0038. Publicly available docket materials are available either in the electronic docket at http://www.regulations.gov, or, if only available in hard copy, at the Office of Pesticide Programs (OPP) Regulatory Public Docket in Rm. S-4400, One Potomac Yard (South Bldg.), 2777 S. Crystal Drive Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Contractor Requirements

Under Contract No.EP-W-07-016, under this contract number, the contractor shall review, evaluate, and assess data to ensure that all information requirements are met, with respect to compliance with EPA guidelines and policies, and determine the adequacy of the study methods, data, and reporting, to support the claims and statements on the product label. The contract shall also conduct reviews in accordance with all guidance received at meeting with the Agency; with all guidelines, templates, instructions, and resourced indicated by the Agency; and with any other legitimate technical directions. The contractor shall identify unauthorized modification to the approved efficacy test methods, or modifications to the methods in the latest approved Series 870 Health Effects or Series 830 Product Properties Test Guidelines. The contractor shall determine if the efficacy performance standards of Subdivision G of the Pesticide Assessment Guidelines, and other AD approved efficacy protocols, are met; or if the product chemistry or acute toxicity results are sufficient.

The OPP has determined that the contract described in this document involve work that is being conducted in connection with FIFRA, in that pesticide chemicals will be the subject of certain evaluations to be made under this contract. These evaluations may be used in subsequent regulatory decisions under FIFRA.

Some of this information may be entitled to confidential treatment. The information has been submitted to EPA under sections 3, 4, 6, and 7 of FIFRA and under sections 408 and 409 of FFDCA.

In accordance with the requirements of 40 CFR 2.307(h)(3), the contracts with Computer Sciences Corporation, prohibits use of the information for any purpose not specified in these contracts; prohibits disclosure of the information to a third party without prior written approval from the Agency; and requires that each official and employee of the contractor sign an agreement to protect the information from unauthorized release and to handle it in accordance with the FIFRA Information Security Manual. In addition, Computer Sciences Corporation is required to submit for EPA approval a security plan under which any CBI will be secured and protected against unauthorized release or compromise. No information will be provided to Computer Sciences Corporation until the requirements in this document have been fully satisfied. Records of information provided to Computer Sciences Corporation will be maintained by EPA Project Officers for these contracts. All information supplied to Computer Sciences Corporation by EPA for use in connection with these contracts will be returned to EPA when Computer Sciences Corporation has completed its work.

List of Subjects

Environmental protection, Business and industry, Government contracts, Government property, Security measures.

Dated: October 18, 2007.
Kathryn Bouve,
Acting Director, Office of Pesticide Programs.

[FR Doc. E7-21090 Filed 10-30-07; 8:45 am]

BILLING CODE 6560-50-S